DEPARTMENT OF ENERGY

Ultra-Deepwater Advisory Committee

AGENCY: Department of Energy, Office of Fossil Energy.

ACTION: Notice of open meeting.

SUMMARY: This notice announces a meeting of the Ultra-Deepwater Advisory Committee. Federal Advisory Committee Act (Public Law 92-463, 86 Stat. 770) requires that notice of these meetings be announced in the Federal Register.

DATES: Tuesday, September 9, 2008; 7:30 a.m.-8 a.m.—Registration. 8 a.m. to 5 p.m. Wednesday, September 10, 2008; 7:30 a.m.-8 a.m.—Registration. 8 a.m. to 12 p.m.

ADDRESSES: Hilton Alexandria Old Town, 1767 King Street, Alexandria, VA 22314.

FOR FURTHER INFORMATION CONTACT: Elena Melchert, U.S. Department of Energy, Office of Oil and Natural Gas, Washington, DC 20585. Phone: 202-586-5600.

SUPPLEMENTARY INFORMATION: Purpose of the Committee: The purpose of the Ultra-Deepwater Advisory Committee is to provide advice on development and implementation of programs related to ultra-deepwater natural gas and other petroleum resources to the Secretary of Energy; and provide comments and recommendations and priorities for the Department of Energy Annual Plan per requirements of the Energy Policy Act of 2005, Subtitle J, Section 999.

Tentative Agenda

September 9, 2008

7:30 a.m.-8 a.m.—Registration.

8 a.m.-12 p.m.—Welcome & Introductions, Opening Remarks by the Designated Federal Officer, Overview of Draft Annual Plan, Presentation on the DOE Traditional Oil and Gas Program, Section 999 Planning Process and Draft Annual Plan, Overview of the Ultra-Deepwater Proposed Plan, and Overview of Section 999D Advisory Committees.

12 p.m-1 p.m.—Lunch.

1 p.m.-5 p.m.—Facilitated Discussions.

5 p.m—Adjourn.

September 10, 2008

7:30 a.m.-8 a.m.—Registration.

8 a.m.-10 a.m.—National Energy Technology Laboratory Complementary Plan.

10 a.m.-11:30 a.m.—Facilitated Discussion.

11:30 a.m.-12 p.m.—Public Comment.

12 p.m.—Adjourn.

Public Participation: The meeting is open to the public. The Designated Federal Officer, the Committee Chairman, and a Facilitator will lead the meeting for the orderly conduct of business. If you would like to file a written statement with the Committee, you may do so either before or after the meeting. If you would like to make oral statements regarding any of the items on the agenda, you should contact Elena Melchert at the address or telephone number listed above. You must make your request for an oral statement at least five business days prior to the meeting, and reasonable provisions will be made to include the presentation on the agenda. Public comment will follow the 10 minute rule.

Minutes: The minutes of this meeting will be available for public review and copying within 60 days at the Freedom of Information Public Reading Room, Room 1G-033, Forrestal Building, 1000 Independence Avenue, SW., Washington, DC, between 9 a.m. and 4 p.m., Monday through Friday, except federal holidays.

Issued at Washington, DC, on July 30, 2008.
Rachel Samuel,
Deputy Committee Management Officer.

[FR Doc. E8-17909 Filed 8-4-08; 8:45 am]

BILLING CODE 6450-01-P